DEPARTMENT OF HOMELAND SECURITY

Preparedness Directorate, Center for Faith-based and Community Initiatives Submission for New Collection (Emergency Preparedness Workshop Questionnaire)

AGENCY: Office of the Under Secretary for Preparedness, Center for Faith-based and Community Initiatives, DHS.

ACTION: Proposed new information collection submission for OMB Review; comment request.

SUMMARY: The Department of Homeland Security, Office of the Under Secretary for Preparedness, Center for Faith-based and Community Initiatives has submitted the following information collection request (ICR) to the Office of Management and Budget (OMB) for review and clearance in accordance with the Paperwork Reduction Act of 1995 (Pub. L. 104-13, 44 U.S.C. Chapter 35).

DATES: Comments are encouraged and will be accepted until May 14, 2007. This process is conducted in accordance with 5 CFR 1320.1.

ADDRESSES: Comments and questions about this Information Collection Request should be forwarded to the Center for Faith-based and Community Initiatives, Attn: Dana Ayers for the Department of Homeland Security, Office of the Undersecretary for Preparedness, 3801 Nebraska Avenue Complex, Building 17, Washington, DC 20528.

FOR FURTHER INFORMATION CONTACT: Dana Ayers, via electronic mail at dana.ayers1@dhs.gov or 202-447-3343 (this is not a toll free number).

SUPPLEMENTARY INFORMATION: The Department of Homeland Security (DHS), Office of the Under Secretary for Preparedness, Center for Faith-based and Community Initiatives will be conducting outreach workshops in urban areas across the United States to educate faith-based and community organizations about emergency preparedness and response and to bring these organizations together with their State and local emergency management officials. To measure the effectiveness of these workshops, CFBCI will request attendees to complete a one page questionnaire on the date of the workshop, and a follow up questionnaire six months after the workshop. The questionnaire will request information about the size of the organization, the organization's preparedness status, its knowledge of local emergency management personnel, and its involvement in emergency preparedness and response activities.

The Office of Management and Budget is particularly interested in comments which:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Analysis

Agency: Department of Homeland Security, Office of the Under Secretary for Preparedness, Center for Faith-based and Community Initiatives.

Title: Emergency Preparedness Workshop Questionnaire.

OMB Number: 1670-NEW.

Frequency: Twice for each workshop; Once at the workshop and a follow-up six months after the workshop.

Affected Public: Faith-based and community organization representatives who attend Preparedness Workshops sponsored by DHS Center for Faith-based and Community Initiatives.

Number of Respondents: 500.

Estimated Time Per Respondent: 10 minutes.

Total Burden Hours: 1 hour.

Total Burden Cost (capital/startup): $0.00.

Total Burden Cost (operating/maintaining): $0.00.

Charlie Church,
Chief Information Officer, Preparedness Directorate, Homeland Security.

[FR Doc. E7-4569 Filed 3-13-07; 8:45 am]

BILLING CODE 4410-10-P